DEPARTMENT OF AGRICULTURE

Food Safety and Inspection Service

[Docket No. FSIS-2010-0045]

Codex Alimentarius Commission: Meeting of the Codex Committee on Food Additives

AGENCY: Office of the Under Secretary for Food Safety, USDA.

ACTION: Notice of public meeting and request for comments.

SUMMARY: The Office of the Under Secretary for Food Safety, U.S. Department of Agriculture (USDA), and the Food and Drug Administration (FDA), U.S. Department of Health and Human Services, are sponsoring a public meeting on February 22, 2011. The objective of the public meeting is to provide information and receive public comments on agenda items and draft United States (U.S.) positions that will be discussed at the 43rd Session of the Codex Committee on Food Additives (CCFA) of the Codex Alimentarius Commission (Codex), which will be held in Xiamen (Fujian Province), China, March 14-18, 2011. The Under Secretary for Food Safety and FDA recognize the importance of providing interested parties the opportunity to obtain background information on the 43rd Session of the CCFA and to address items on the agenda.

DATES: The public meeting is scheduled for Tuesday, February 22, 2011, from 10 a.m. to 1 p.m.

ADDRESSES: The public meeting will be held in The Auditorium (1A003), FDA, Harvey Wiley Federal Building, 5100 Paint Branch Parkway, College Park, MD 20740.

Documents related to the 43rd Session of the CCFA will be accessible via the World Wide Web at the following address: http://www.codexalimentarius.net/current.asp.

Dennis Keefe, U.S. Delegate to the 43rd Session of the CCFA, and FDA invite U.S. interested parties to submit their comments electronically to the following e-mail address: cfsan-ccfa@fda.hhs.gov.

Registration: Attendees may register electronically at the same e-mail address provided above by February 18, 2011. Early registration is encouraged because it will expedite entry into the building and its parking area. If you require parking, please include the vehicle make and tag number when you register. Because the meeting will be held in a Federal building, you should also bring photo identification and plan for adequate time to pass through security screening systems. Attendees who are not able to attend the meeting in-person but wish to participate may do so by phone. Those wishing to participate by phone should request the call-in number and conference code when they register for the meeting.

For Further Information about the 43RD Session Of The CCFA Contact: Dennis M. Keefe, PhD, Director, Senior Science and Policy Staff, Office of Food Additive Safety, Center for Food Safety and Applied Nutrition (CFSAN)/FDA, HFS-205, 5100 Paint Branch Parkway, College Park, MD 20740, Telephone: (301) 436-1200, Fax: (301) 436-2972, e-mail: dennis.keefe@fda.hhs.gov.

For Further Information about the Public Meeting Contact: Jannavi R. Srinivasan, PhD, Chemistry Reviewer, Division of Biotech and GRAS Notice Review, Office of Food Additive Safety, CFSAN/FDA, HFS-255, 5100 Paint Branch Parkway, College Park, MD 20740, Telephone: (301) 436-1199, Fax: (301) 436-2965, e-mail: jannavi.srinivasan@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA establishes or endorses permitted maximum levels for individual additives; prepares priority lists of food additives for risk assessment by the Joint FAO/WHO Expert Committee on Food Additives (JECFA); assigns functional classes to individual food additives; recommends specifications of identity and purity for food additives for adoption by Codex; considers methods of analysis for the determination of additives in food; and considers and elaborates standards or codes for related subjects, such as labeling of food additives when sold as such.

The Committee is hosted by China.

Issues To Be Discussed at the Public Meeting

The following items on the agenda for the 43rd Session of the CCFA will be discussed during the public meeting:

• Matters referred by Codex and other Codex committees and task forces.

• Matters of interest arising from FAO/WHO and from the 73rd Meeting of the JECFA.

• Endorsement and revision of maximum levels for food additives and processing aids in Codex standards.

• Discussion paper on food additive provisions in the Standard for infant formulas and formula for special medical purposes (CODEX STAN 72-1981).

• Discussion paper on the alignment of the food additive provisions of the standards for meat products and relevant provisions of the General Standard for Food Additives (GSFA).

• Draft and proposed draft food additive provisions of the GSFA.

• Proposed draft food additives provisions (new and revised).

• Comments and information on several food additives (replies to CL 2010/7-FA, Part B and CL 2010/39-FA).

• Provisions for aluminum-containing food additives.

• Proposed draft revision of the food category system (food categories 5.1, 5.2 and 5.4) (N07-2010).

• Revision of the name and descriptors of food category 16.0.

• Discussion paper on use of Note 161.

• Discussion paper on the revision of Section 4 “Carry-over of food additives into food” of the Preamble of the GSFA.

• Proposed draft revision of the Codex Standard for Food Grade Salt (CODEX STAN 150-1985) (N08-2010).

• Proposals for changes and addition to the International Numbering System for Food Additives.

• Specifications for the identity and purity of food additives arising from the 73rd JECFA.

• Proposals for additions and changes to the priority list of food additives proposed for evaluation by the JECFA (replies to CL 2010/10-FA).

• Discussion paper on mechanisms for re-evaluation of substances by the JECFA.

• Discussion paper on development of a database on processing aids.

Each issue listed will be fully described in documents distributed, or to be distributed, by the Secretariat prior to the meeting. Members of the public may access copies of these documents (see ADDRESSES).

Public Meeting

At the February 22, 2011, public meeting, draft U.S. positions on the agenda items will be described and discussed, and attendees will have the opportunity to pose questions and offer comments. Written comments may be offered at the meeting or sent to the U.S. Delegate for the 43rd Session of the CCFA, Dr. Dennis Keefe (see ADDRESSES). Written comments should state that they relate to activities of the 43rd session of the CCFA.

USDA Nondiscrimination Statement

USDA prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups, consumer interest groups, allied health professionals, scientific professionals, and other individuals who have requested to be included. The Update also is available on the FSIS Web page. Through Listserv and the Web page, FSIS is able to provide information to a much broader, more diverse audience. In addition, FSIS offers an e-mail subscription service which provides automatic and customized access to selected food safety news and information. This service is available at http://www.fsis.usda.gov/News_&_Events/Email_Subscription/.

Options range from recalls, export information, regulations, directives, and notices. Customers can add or delete subscriptions themselves, and have the option to password protect their accounts.

Done at Washington, DC, on January 12, 2011.
Karen Stuck,
U.S. Manager for Codex Alimentarius.

[FR Doc. 2011-1145 Filed 1-19-11; 8:45 am]

BILLING CODE 3410-DM-P